DEPARTMENT OF LABOR

Employment and Training Administration

[TA-W-38,693 AND NAFTA-04514]

Summit Timber Co., Darrington, WA; Notice of Negative Determination on Reconsideration

On September 24, 2001, the Department issued an Affirmative Determination Regarding Application for Reconsideration for the workers and former workers of the subject firm. The notice as published in the Federal Register on October 19, 2001 (66 FR 53253).

The Department initially denied TAA to workers of Summit Timber Company because the “contributed importantly” group eligibility requirement of section 222(3) of the Trade Act of 1974, as amended, was not met. None of the customers increased their import purchases of softwood dismenional lumber, while reducing their purchases from the subject firm.

The Department denied NAFTA-TAA because the “contributed importantly” group eligibility requirement of Section 250 was not met and because there was no shift in production to either Mexico or Canada. None of the customers increased their import purchases of softwood dimensional lumber from Canada or Mexico, while reducing their purchases from the subject firm.

The workers at the subject firm were engaged in employment related to the production of softwood dimensional lumber.

The company supplied an additional list of customers that they believed were importing softwood dimensional lumber.

On reconsideration, the Department conducted a survey of Summit Timber Company's additional customer list regarding their purchases of softwood dimensional lumber during 1999, 2000 and January through September 2001. The survey revealed that there were no meaningful increased customer purchases of imported (including from Canada or Mexico) softwood dimensional lumber, while customers decreased their purchases from the subject plant during the relevant period. Any customer import purchases of softwood lumber were relatively small in relation to the declines in sales at the subject firm.

Conclusion

After reconsideration, I affirm the original notice of negative determinations regarding eligibility to apply for worker adjustment assistance and NAFTA-Transitional Adjustment Assistance for workers and former workers of Summit Timber Company, Darrington, Washington.

Signed at Washington, DC, this 28th day of November 2001.
Edward A. Tomchick,
Director, Division of Trade Adjustment Assistance.

[FR Doc. 01-31149 Filed 12-17-01; 8:45 am]

BILLING CODE 4510-30-M